DEPARTMENT OF THE INTERIOR

Bureau of Reclamation

[RR02054000, 18XR0687NA, RX.18527901.3000000]

Central Valley Project Improvement Act Water Management Plans

AGENCY: Bureau of Reclamation, Interior.

ACTION: Notice of availability.

SUMMARY: The Bureau of Reclamation has made available to the public the Water Management Plans for twelve entities. For the purpose of this announcement, Water Management Plans (Plans) are considered the same as Water Conservation Plans. Reclamation is publishing this notice in order to allow the public an opportunity to review the Plans and comment on the preliminary determinations.

DATES: Submit written comments on the preliminary determinations on or before June 15, 2018.

ADDRESSES: Send written comments to Ms. Charlene Stemen, Bureau of Reclamation, 2800 Cottage Way, MP-400, Sacramento, CA 95825; or via email at cstemen@usbr.gov.

FOR FURTHER INFORMATION CONTACT: To be placed on a mailing list for any subsequent information, please contact Ms. Charlene Stemen at cstemen@usbr.gov, or at 916-978-5218 (TDD 978-5608).

SUPPLEMENTARY INFORMATION: Section 3405(e) of the Central Valley Project Improvement Act (Title 34 Pub. L. 102-575), requires the Secretary of the Interior to, amongst other things, “develop criteria for evaluating the adequacy of all water conservation plans” developed by certain contractors. According to Section 3405(e)(1), these criteria must promote, “the highest level of water use efficiency reasonably achievable by project contractors using best available cost-effective technology and best management practices.” In accordance with this legislative mandate, the Bureau of Reclamation developed and published the Criteria for Evaluating Water Management Plans (Criteria). Each of the twelve entities listed below developed a Plan that Reclamation evaluated and preliminarily determined meets the requirements of the Criteria. The following Plans are available for review:

• City of Roseville

• City of Santa Barbara

• Contra Costa Water District

• Del Puerto Water District

• Dunnigan Water District

• East Bay Municipal Utilities District

• El Dorado Irrigation District

• Proberta Water District

• Santa Clara Valley Water District

• Shafter-Wasco Irrigation District

• Truckee-Carson Irrigation District

• Tulelake Irrigation District

We invite the public to comment on our preliminary (i.e., draft) determination of Plan adequacy. A copy of these Plans will be available for review at Reclamation's Mid-Pacific Regional Office, 2800 Cottage Way, MP-410, Sacramento, CA 95825. If you wish to review a copy of these Plans, please contact Ms. Stemen.

Public Disclosure

Our practice is to make comments, including names and home addresses of respondents, available for public review. Before including your address, phone number, email address, or other personal identifying information in your comment, you should be aware that your entire comment—including your personal identifying information—may be made publicly available at any time. While you can ask us in your comment to withhold your personal identifying information from public review, we cannot guarantee we will be able to do so.

Dated: May 8, 2018.
Richard J. Woodley,
Regional Resources Manager, Mid-Pacific Region, Bureau of Reclamation.

[FR Doc. 2018-10409 Filed 5-15-18; 8:45 am]

BILLING CODE 4332-90-P